DEPARTMENT OF THE INTERIOR

Fish and Wildlife Service

[FWS-R7-ES-2024-N073; FXES11130700000-256-FF07C00000]

Endangered and Threatened Wildlife and Plants; Initiation of 5-Year Status Reviews for the Short-Tailed Albatross (Phoebastria albatrus) and the Wood Bison (Bison bison athabascae)

AGENCY: Fish and Wildlife Service, Interior.

ACTION: Notice of initiation of reviews; request for information.

SUMMARY: We, the U.S. Fish and Wildlife Service, are initiating 5-year status reviews under the Endangered Species Act for the short-tailed albatross and the wood bison. A 5-year status review is based on the best scientific and commercial data available at the time of the review; therefore, we are requesting submission of any new information on these species that has become available since the last reviews.

DATES: To ensure consideration of your information in our reviews, we must receive your comments or information on or before September 12, 2025. However, we will accept new information about the species at any time.

ADDRESSES: For short-tailed albatross, please submit your information by one of the following methods:

• Email: jennifer_j_spegon@fws.gov; or

• U.S. mail or hand delivery: U.S. Fish and Wildlife Service, Attention: Jennifer Spegon, Southern Alaska Fish and Wildlife Field Office, 4700 BLM Road, Anchorage, AK 99507.

For the wood bison, please submit your information by one of the following methods:

• Email: carol_mahara@fws.gov; or

• U.S. mail or hand delivery: U.S. Fish and Wildlife Service, Attention: Carol Mahara, Southern Alaska Fish and Wildlife Field Office, 4700 BLM Road, Anchorage, AK 99507.

For more about submitting information, see Request for Information in the SUPPLEMENTARY INFORMATION section.

FOR FURTHER INFORMATION CONTACT: For short-tailed albatross: Jennifer Spegon, by telephone at 907-271-2768 or by one of the methods in ADDRESSES.

For the wood bison: Carol Mahara, by telephone at 907-280-9751 or by one of the methods in ADDRESSES.

Individuals in the United States who are deaf, deafblind, hard of hearing, or have a speech disability may dial 711 (TTY, TTD, or TeleBraille) to access telecommunications relay services. Individuals outside the United States should use the relay services offered within their country to make international calls to the point-of-contact in the United States.

SUPPLEMENTARY INFORMATION: We, the U.S. Fish and Wildlife Service (Service), are initiating 5-year status reviews under the Endangered Species Act of 1973, as amended (ESA; 16 U.S.C. 1531 et seq.) for the short-tailed albatross (Phoebastria albatrus) and the wood bison (Bison bison athabascae). A 5-year status review is based on the best scientific and commercial data available at the time of the review. Therefore, we are requesting submission of any such information that has become available since the last review for these species in 2020, particularly information on the status, threats, and recovery of the species.

Why do we conduct 5-year reviews?

Under the ESA, we maintain Lists of Endangered and Threatened Wildlife and Plants (which we collectively refer to as the List) in title 50 of the Code of Federal Regulations (CFR) at 50 CFR 17.11 (for wildlife) and 50 CFR 17.12 (for plants). Section 4(c)(2)(A) of the ESA (16 U.S.C. 1533(c)(2)(A)) requires us to review each listed species' status at least once every 5 years. Our regulation at 50 CFR 424.21 requires that we publish a notice in the Federal Register announcing that a species is under active review. For additional information about 5-year reviews, refer to our fact sheet at https://www.fws.gov/project/five-year-status-reviews.

What information do we consider in our reviews?

A 5-year status review considers all new information available at the time of the review. In conducting these reviews, we consider the best scientific and commercial data that have become available since the current listing determination or most recent status review of each species, such as:

A. Species biology, including but not limited to population trends, distribution, abundance, demographics, and genetics;

B. Habitat conditions, including but not limited to amount, distribution, and suitability;

C. Conservation measures that have been implemented that benefit the species;

D. Threat status and trends in relation to the five listing factors (as defined in section 4(a)(1) of the ESA (16 U.S.C. 1533(a)(1)); and

E. Other new information, data, or corrections, including but not limited to taxonomic or nomenclatural changes, identification of erroneous information contained in the List, and improved analytical methods.

Any new information will be considered during the 5-year review and will also be useful in evaluating the ongoing recovery programs for the species.

Which species are under review?

Entity listed: Short-tailed albatross (Phoebastria albatrus).

• Listing status: Endangered.

• Where listed: Wherever found.

• Final listing rule (Federal Register citation and publication date): 65 FR 46643; July 31, 2000.

Entity listed: Wood bison (Bison bison athabascae).

• Listing status: Threatened.

• Where listed: Wherever found.

• Final listing rule (Federal Register citation and publication date): 35 FR 8491; June 2, 1970.

Request for New Information

To ensure that a 5-year review is complete and based on the best available scientific and commercial information, we request new information from all sources. See the section “What Information Do We Consider in Our Review?” above for specific criteria. If you submit information, please support it with documentation such as maps, references, methods used to gather and analyze the data, and/or copies of any pertinent publications, reports, or letters by knowledgeable sources.

How do I ask questions or provide information?

If you wish to provide information for either species listed above, please submit your comments and materials to the appropriate contact in the ADDRESSES listed above. You may also direct questions to those contacts (see FOR FURTHER INFORMATION CONTACT).

Public Availability of Comments

Before including your address, phone number, email address, or other personal identifying information in your submission, you should be aware that your entire submission—including your personal identifying information—may be made publicly available at any time. Although you can request that personal identifying information be withheld from public review, we cannot guarantee that we will be able to do so.

Completed and Active Reviews

A list of all completed and currently active 5-year status reviews can be found at https://ecos.fws.gov/ecp/report/species-five-year-review.

Authority

This document is published under the authority of the Endangered Species Act of 1973, as amended (16 U.S.C. 1531 et seq.).

Peter Fasbender,
Assistant Regional Director, Fisheries and Ecological Services, Alaska Region.

[FR Doc. 2025-13041 Filed 7-11-25; 8:45 am]

BILLING CODE 4333-15-P